SMALL BUSINESS ADMINISTRATION

Region I Advisory Council Meeting; Public Meeting

The U.S. Small Business Administration Region I Advisory Council, located in the geographical area of Hartford, Connecticut will hold a public meeting at 8:30 a.m. on Monday, September 18, 2000, located at the Connecticut District Office, 330 Main Street, Hartford, Connecticut 06106, to discuss such matters as may be presented. For further information, write or call Marie Record, District Director, U.S. Small Business Administration, (860) 240-4700.

Bettie Baca,
Counselor to the Administrator/Public Liaison.

[FR Doc. 00-20869 Filed 8-16-00; 8:45 am]

BILLING CODE 8025-01-P